ENVIRONMENTAL PROTECTION AGENCY

[FRL-8230-5]

A Framework for Assessing Health Risks of Environmental Exposures to Children

AGENCY: Environmental Protection Agency (EPA).

ACTION: Notice of availability.

SUMMARY: EPA is announcing the availability of a final report titled, “A Framework for Assessing Health Risks of Environmental Exposures to Children” (EPA/600/R-05/093F), prepared by the National Center for Environmental Assessment (NCEA) within EPA's Office of Research and Development (ORD).

DATES: This document will be available on or about October 13, 2006.

ADDRESSES: The document will be available electronically through the NCEA Web site at www.epa.gov/ncea. A limited number of paper copies will be available from the EPA's National Service Center for Environmental Publications (NSCEP), P.O. Box 42419, Cincinnati, OH 45242; telephone: 1-800-490-9198 or 513-489-8190; facsimile: 513-489-8695. Please provide your name, your mailing address, the title and the EPA number of the requested publication.

FOR FURTHER INFORMATION CONTACT: The Technical Information Staff, National Center for Environmental Assessment/Washington Office (8623D), U.S. Environmental Protection Agency, 1200 Pennsylvania Avenue, NW., Washington, DC 20460; telephone: 202-564-3261; fax: 202-565-0050; e-mail: nceadc.comment@epa.gov.

SUPPLEMENTARY INFORMATION: The purpose of this report is to provide an overarching framework for a complete and transparent assessment of exposure of environmental agents to children and resulting potential health risks within the U.S. EPA's risk assessment paradigm. This Framework builds on the Agency's past experience in evaluating risk to children. This Framework lays out a life stage-specific risk assessment process, points to existing published sources for more detailed information on life stage-specific considerations, and includes Web links to specific online publications and relevant Agency science policy papers, guidelines and guidance. This Framework emphasizes the need for risk assessments to take into account potential exposures to environmental agents during preconception and all stages of development. This Framework is not intended to present an Agency guideline, but rather describes the overall structure of and the components considered important for children's health risk assessment.

The report describes an approach that includes problem formulation, analysis, and risk characterization steps, and also builds on Agency experience assessing risk to susceptible populations.

• Problem Formulation—Focuses on the life stage-specific nature of the analysis to include scoping and screening level questions for hazard characterization, dose response and exposure assessment.

• Analysis—Focuses on a life stage approach to evaluating hazard, dose-response and exposure that is relevant to the scope of the problem identified in problem formulation.

• Risk Characterization—Recognizes the need to consider life stage-specific risks and explicitly describes the uncertainties and variability in the database.

It is important to note that within this framework, life stage-specific data gaps are not meant to convey an obligatory change in how uncertainty factor(s) associated with EPA's health risk assessment methods should be judged in a given risk assessment, but rather to consider how life stage-specific data can better characterize the risk to susceptible groups within the population.

The peer review panel report, the public comments, and the response to peer review and public comments will also be available at the same time.

Dated: September 14, 2006.
George Alapas,
Acting Director, National Center for Environmental Assessment.

[FR Doc. E6-16911 Filed 10-12-06; 8:45 am]

BILLING CODE 6560-50-P